DEPARTMENT OF TRANSPORTATION

Federal Aviation Administration

14 CFR Part 71

[Docket No. FAA-2018-0817; Airspace Docket No. 18-ASW-1]

RIN 2120-AA66

Amendment and Establishment of Multiple Air Traffic Service (ATS) Routes in the Vicinity of Houston, TX

AGENCY: Federal Aviation Administration (FAA), DOT.

ACTION: Final rule.

SUMMARY: This action modifies 3 jet routes, 2 high altitude area navigation (RNAV) Q-routes, and 8 VHF Omnidirectional Range (VOR) Federal airways, and establishes 4 low altitude RNAV T-routes in the vicinity of Houston, TX. The FAA is taking this action due to the planned decommissioning of the Hobby, TX, VOR/Distance Measuring Equipment (VOR/DME) navigation aid (NAVAID), which provides navigation guidance for portions of the affected ATS routes.

DATES: Effective date 0901 UTC, March 26, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure in the National Airspace System as necessary to preserve the safe and efficient flow of air traffic.

History

The FAA published a notice of proposed rulemaking in the Federal Register for Docket No. FAA-2018-0817 (83 FR 48730; September 27, 2018) to amend 3 jet routes, 2 RNAV Q-routes, and 8 VOR Federal airways, and establish 4 RNAV T-routes due to the planned decommissioning of the Hobby, TX, VOR/DME. Interested parties were invited to participate in this rulemaking effort by submitting written comments on the proposal. One supportive comment was received.

The NPRM stated that the Hobby, TX, VOR/DME was being decommissioned in support of construction activities for a new international terminal and associated parking garage at the William P. Hobby Airport, Houston, TX. That was based on the Houston Airport System's September 2018 request that the FAA permanently turn off and remove the Hobby VOR/DME located on the Houston Hobby Airport parking garage as the VOR had been out of service for several months due to construction of the new international terminal and parking garage. However, prior to the Houston Airport System request, the FAA initiated a plan for reducing the number of VORs.

On December 15, 2011, the FAA published in the Federal Register a notice of proposed policy and request for comments (76 FR 77939) on the FAA's proposed strategy for gradually reducing the current VOR network to a Minimum Operational Network (MON) as the National Airspace System (NAS) transitions to performance-based navigation (PBN) as part of the Next Generation Air Transportation System (NextGen). The FAA reviewed all comments received and on August 21, 2012, published in the Federal Register the disposition of the comments on the notice of proposed policy (77 FR 50420). In considering and disposing of the comments, the FAA noted that it would develop an initial VOR MON Plan which would be made publicly available.

On July 26, 2016, the FAA published in the Federal Register the VOR MON final policy statement (81 FR 48694) announcing the discontinuance selection criteria and candidate list of VOR navigational aids targeted for discontinuance as part of the VOR MON Implementation Program and NAS Efficient Streamline Services Initiative. This action is part of that national strategy.

Jet Routes are published in paragraph 2004, high altitude RNAV Q-routes are published in paragraph 2006, Domestic VOR Federal airways are published in paragraph 6010(a), and low altitude RNAV T-routes are published in paragraph 6011 of FAA Order 7400.11D dated August 8, 2019, and effective September 15, 2019, which is incorporated by reference in 14 CFR 71.1. The jet routes, Q-routes, VOR Federal airways, and T-routes listed in this document will be subsequently published in the Order.

FAA Order 7400.11, Airspace Designations and Reporting Points, is published yearly and effective on September 15.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

The FAA is amending Title 14 Code of Federal Regulations (14 CFR) part 71 by modifying 3 jet routes, 2 Q-routes, and 8 VOR Federal airways, and establishing 4 T-routes due to the planned decommissioning of the Hobby, TX, VOR/DME. The ATS route amendments are to the descriptions of J-37, J-138, J-177, Q-24, Q-56, V-15, V-20, V-68, V-76, V-194, V-198, V-548, and V-558, and the new T-routes would be designated T-200, T-220, T-224, and T-256. The ATS route changes are outlined below. Full ATS route descriptions are in the “Adoption of the Amendment” section of this document.

The jet route amendments are as follows:

J-37: J-37 extends between the Hobby, TX, VOR/DME and the Coyle, NJ, VOR/Tactical Air Navigation (VORTAC); and between the Kennedy, NY, VOR/DME and the Massena, NY, VORTAC. The airway segment between the Hobby, TX, VOR/DME and the Harvey, LA, VORTAC is removed. The unaffected portions of the existing airway remain as charted.

J-138: J-138 extends between the Fort Stockton, TX, VORTAC and the Semmes, AL, VORTAC. The airway segment between the San Antonio, TX, VORTAC and the Lake Charles, LA, VORTAC is removed. The unaffected portions of the existing airway remain as charted.

J-177: J-177 extends between the Humble, TX, VORTAC and the Tampico, Mexico, VOR/DME, excluding the portion south of lat. 26°00′00″ N. The airway segment between the Humble, TX, VORTAC and the Palacios, TX, VORTAC is removed. The unaffected portions of the existing airway remain as charted.

The Q-route amendments are as follows:

Q-24: Q-24 extends between the Lake Charles, LA, VORTAC and the PAYTN, AL, fix. The route west of the Lake Charles, LA, VORTAC is extended to the San Antonio, TX, VORTAC. The San Antonio, TX, VORTAC and the MOLLR, TX, waypoint (WP) are added prior to the Lake Charles, LA VORTAC. The unaffected portions of the existing airway remain as charted.

Q-56: Q-56 extends between the CATLN, AL, fix and the KIWII, VA, WP. The route south of the CATLN, AL, fix is extended to the San Antonio, TX, VORTAC. The San Antonio, TX, VORTAC; the MOLLR, TX, WP; the PEKON, LA, fix; the Harvey, LA, VORTAC; and the Semmes, AL, VORTAC are added prior to the CATLN, AL, fix. Additionally, the KBLER, GA, WP is removed between the CATLN, AL, fix and the KELLN, SC, WP. The unaffected portions of the existing airway remain as charted.

The VOR Federal airway amendments are as follows:

V-15: V-15 extends between the Hobby, TX, VOR/DME and the Neosho, MO, VOR/DME; and between the Sioux City, IA, VORTAC and the Minot, ND, VORTAC (incorrectly identified as a VORTAC in the NPRM). The airway segment between the Hobby, TX, VOR/DME and the Navasota, TX, VOR/DME is removed. The unaffected portions of the existing airway remain as charted.

V-20: V-20 extends between the McAllen, TX, VOR/DME and the Nottingham, MD, VORTAC. The airway segment between the Palacios, TX, VORTAC and the Beaumont, TX, VOR/DME is removed. The unaffected portions of the existing airway remain as charted.

V-68: V-68 extends between the Montrose, CO, VOR/DME and the Hobby, TX, VOR/DME. The airway segment between the Industry, TX, VORTAC and the Hobby, TX, VOR/DME is removed. The unaffected portions of the existing airway remain as charted.

V-76: V-76 extends between the Lubbock, TX, VORTAC and the Hobby, TX, VOR/DME. The airway segment between the Industry, TX, VORTAC and the Hobby, TX, VOR/DME is removed. The unaffected portions of the existing airway remain as charted.

V-194: V-194 extends between the Cedar Creek, TX, VORTAC and the Meridian, MS, VORTAC; and between the Liberty, NC, VORTAC and the intersection of the Cofield, NC, VORTAC 077° and Norfolk, VA, VORTAC 209° radials (SUNNS fix). The airway segment between the College Station, TX, VORTAC and the Sabine Pass, TX, VOR/DME is removed. The unaffected portions of the existing airway remain as charted.

V-198: V-198 extends between the San Simon, AZ, VORTAC and the Craig, FL, VORTAC. The airway segment between the Eagle Lake, TX, VOR/DME and the Sabine Pass, TX, VOR/DME is removed. The unaffected portions of the existing airway remain as charted.

V-548: V-548 extends between the Hobby, TX, VOR/DME and the Waco, TX, VORTAC. The airway segment between the Hobby, TX, VOR/DME and the College Station, TX, VORTAC is removed. The unaffected portions of the existing airway remain as charted.

V-558: V-558 extends between the Llano, TX, VORTAC and the Hobby, TX, VOR/DME. The airway segment between the Eagle Lake, TX, VOR/DME and the Hobby, TX, VOR/DME is removed. The unaffected portions of the existing airway remain as charted.

The new T-routes are as follows:

T-200: T-200 is established between the College Station, TX, VORTAC and the Sabine Pass, TX, VOR/DME.

T-220: T-220 is established between the Industry, TX, VORTAC and the Sabine Pass, TX, VOR/DME.

T-224: T-224 is established between the Palacios, TX, VORTAC and the Lake Charles, LA, VORTAC.

T-256: T-256 is established between the San Antonio, TX, VORTAC and the Sabine Pass, TX, VOR/DME.

All radials in the route descriptions below are stated in True degrees.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying ATS routes J-37, J-138, J-177, Q-24, Q-56, V-15, V-20, V-68, V-76, V-194, V-198, V-548, and V-558, and establishing T-200, T-220, T-224, and T-256 near Hobby, TX, qualifies for categorical exclusion under the National Environmental Policy Act and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 2004 Jet Routes.

* * * * *

J-37 [Amended]

From Harvey, LA; Semmes, AL; Montgomery, AL; Spartanburg, SC; Lynchburg, VA; Gordonsville, VA; Brooke, VA; INT Brooke 067° and Coyle, NJ, 226° radials; to Coyle. From Kennedy, NY; Kingston, NY; Albany, NY; to Massena, NY.

* * * * *

J-138 [Amended]

From Fort Stockton, TX; Center Point, TX; to San Antonio, TX. From Lake Charles, LA; Fighting Tiger, LA; to Semmes, AL.

* * * * *

J177 [Amended]

From Palacios, TX; to Tampico, Mexico, excluding the portion south of lat. 26°00′00″ N.

Paragraph 2006 United States Area Navigation Routes.

* * * * *

Q-24 San Antonio, TX (SAT) to PAYTN, AL [Amended]
San Antonio, TX (SAT) | VORTAC | (Lat. 29°38′38.51″ N, long. 98°27′40.73″ W)
MOLLR, TX | WP | (Lat. 29°39′20.23″ N, long. 95°16′35.83″ W)
Lake Charles, LA (LCH) | VORTAC | (Lat. 30°08′29.45″ N, long. 93°06′20.05″ W)
Fighting Tiger, LA (LSU) | VORTAC | (Lat. 30°29′06.48″ N, long. 91°17′38.64″ W)
IRUBE, MS | WP | (Lat. 31°00′15.95″ N, long. 88°56′18.62″ W)
PAYTN, AL | FIX | (Lat. 31°28′04.35″ N, long. 87°53′07.91″ W)
* * * * * * *
Q-56 San Antonio, TX (SAT) to KIWII, VA [Amended]
San Antonio, TX (SAT) | VORTAC | (Lat. 29°38′38.51″ N, long. 98°27′40.73″ W)
MOLLR, TX | WP | (Lat. 29°39′20.23″ N, long. 95°16′35.83″ W)
PEKON, LA | FIX | (Lat. 29°37′22.88″ N, long. 92°55′26.37″ W)
Harvey, LA (HRV) | VORTAC | (Lat. 29°51′00.70″ N, long. 90°00′10.74″ W)
Semmes, AL (SJI) | VORTAC | (Lat. 30°43′33.53″ N, long. 88°21′33.46″ W)
CATLN, AL | FIX | (Lat. 31°18′26.03″ N, long. 87°34′47.75″ W)
KELLN, SC | WP | (Lat. 34°31′33.22″ N, long. 82°10′16.92″ W)
KTOWN, NC | WP | (Lat. 35°11′49.14″ N, long. 81°03′18.27″ W)
BYSCO, NC | WP | (Lat. 35°46′09.25″ N, long. 80°04′33.85″ W)
JOOLI, NC | WP | (Lat. 35°54′55.21″ N, long. 79°49′16.24″ W)
NUUMN, NC | WP | (Lat. 36°09′53.78″ N, long. 79°23′38.70″ W)
ORACL, NC | WP | (Lat. 36°28′01.58″ N, long. 78°52′14.80″ W)
KIWII, VA | WP | (Lat. 36°34′56.91″ N, long. 78°40′03.92″ W)

Paragraph 6010(a) Domestic VOR Federal Airways.

* * * * *

V-15 [Amended]

From Navasota, TX; College Station, TX; Waco, TX; Cedar Creek, TX; Bonham, TX; McAlester, OK; Okmulgee, OK; to Neosho, MO. From Sioux City, IA; INT Sioux City 340° and Sioux Falls, SD, 169° radials; Sioux Falls; Huron, SD; Aberdeen, SD; Bismarck, ND; to Minot, ND.

* * * * *

V-20 [Amended]

From McAllen, TX, INT McAllen 038° and Corpus Christi, TX, 178° radials; 10 miles 8 miles wide, 37 miles 7 miles wide (3 miles E and 4 miles W of centerline), Corpus Christi; INT Corpus Christi 054° and Palacios, TX, 226° radials; to Palacios. From Beaumont, TX; Lake Charles, LA; Lafayette, LA; Reserve, LA; INT Reserve 084° and Gulfport, MS, 247° radials; Gulfport; Semmes, AL; INT Semmes 048° and Monroeville, AL, 231° radials; Monroeville; Montgomery, AL; Tuskegee, AL; Columbus, GA; INT Columbus 068° and Athens, GA, 195° radials; Athens; Electric City, SC; Sugarloaf Mountain, NC; Barretts Mountain, NC; South Boston, VA; Richmond, VA; INT Richmond 039° and Brooke, VA, 132° radials; INT Patuxent, MD, 228° and Nottingham, MD, 174° radials; to Nottingham. The airspace on the main airway above 14,000 feet MSL from McAllen to 49 miles northeast and the airspace within Mexico is excluded. The airspace within R-4007A and R-4007B is excluded.

* * * * *

V-68 [Amended]

From Montrose, CO; Cones, CO; Dove Creek, CO; Cortez, CO; Rattlesnake, NM; INT Rattlesnake 128° and Albuquerque, NM, 345° radials; Albuquerque; INT Albuquerque 120° and Corona, NM, 311° radials; Corona; 41 miles 85 MSL, Chisum, NM; Hobbs, NM; Midland, TX; San Angelo, TX; Junction, TX; Center Point, TX; San Antonio, TX; INT San Antonio 064° and Industry, TX, 267° radials; to Industry.

* * * * *

V-76 [Amended]

From Lubbock, TX; INT Lubbock 188° and Big Spring, TX, 286° radials; Big Spring; San Angelo, TX; Llano, TX; Centex, TX; to Industry, TX.

* * * * *

V-194 [Amended]

From Cedar Creek, TX; to College Station, TX. From Sabine Pass, TX; Lafayette, LA; Fighting Tiger, LA; McComb, MS; INT McComb 055° and Meridian, MS, 221° radials; to Meridian. From Liberty, NC; Raleigh-Durham, NC; Tar River, NC; Cofield, NC; to INT Cofield 077° and Norfolk, VA, 209° radials.

* * * * *

V-198 [Amended]

From San Simon, AZ, via Columbus, NM; El Paso, TX; 6 miles wide; INT El Paso 109° and Hudspeth, TX, 287° radials; 6 miles wide; Hudspeth; 29 miles, 38 miles, 82 MSL, INT Hudspeth 109° and Fort Stockton, TX, 284° radials; 18 miles, 82 MSL; Fort Stockton; 20 miles, 116 miles, 55 MSL; Junction, TX; San Antonio, TX; to Eagle Lake, TX. From Sabine Pass, TX; White Lake, LA; Tibby, LA; Harvey, LA; 69 miles, 33 miles, 25 MSL; Brookley, AL; INT Brookley 056° and Crestview, FL, 266° radials; Crestview; Marianna, FL; Seminole, FL; Greenville, FL; Taylor, FL; INT Taylor 093° and Craig, FL, 287° radials; to Craig.

* * * * *

V-548 [Amended]

From College Station, TX; INT College Station 307° and Waco, TX, 173° radials; to Waco.

* * * * *

V-558 [Amended]

From Llano, TX; INT Llano 088° and Centex, TX, 306° radials; Centex; Industry, TX; to Eagle Lake, TX.

Paragraph 6011 United States Area Navigation Routes.

* * * * *

T-200 College Station, TX (CLL) to Sabine Pass, TX (SBI) [New]
College Station, TX (CLL) | VORTAC | (Lat. 30°36′18.00″ N, long. 96°25′14.45″ W)
SEALY, TX | FIX | (Lat. 29°51′15.54″ N, long. 95°56′36.33″ W)
MOLLR, TX | WP | (Lat. 29°39′20.23″ N, long. 95°16′35.83″ W)
Sabine Pass, TX (SBI) | VOR/DME | (Lat. 29°41′12.19″ N, long. 94°02′16.72″ W)
* * * * * * *
T-220 Industry, TX (IDU) to Sabine Pass, TX (SBI) [New]
Industry, TX (IDU) | VORTAC | (Lat. 29°57′21.81″ N, long. 96°33′43.90″ W)
SEALY, TX | FIX | (Lat. 29°51′15.54″ N, long. 95°56′36.33″ W)
MOLLR, TX | WP | (Lat. 29°39′20.23″ N, long. 95°16′35.83″ W)
Sabine Pass, TX (SBI) | VOR/DME | (Lat. 29°41′12.19″ N, long. 94°02′16.72″ W)
* * * * * * *
T-224 Palacios, TX (PSX) to Lake Charles, LA (LCH) [New]
Palacios, TX (PSX) | VORTAC | (Lat. 28°45′51.93″ N, long. 96°18′22.25″ W)
MOLLR, TX | WP | (Lat. 29°39′20.23″ N, long. 95°16′35.83″ W)
Beaumont, TX (BPT) | VOR/DME | (Lat. 29°56′45.80″ N, long. 94°00′58.36″ W)
Lake Charles, LA (LCH) | VORTAC | (Lat. 30°08′29.45″ N, long. 93°06′20.05″ W)
* * * * * * *
T-256 San Antonio, TX (SAT) to Sabine Pass, TX (SBI) [New]
San Antonio, TX (SAT) | VORTAC | (Lat. 29°38′38.51″ N, long. 98°27′40.73″ W)
Eagle Lake, TX (ELA) | VOR/DME | (Lat. 29°39′44.93″ N, long. 96°19′01.65″ W)
MOLLR, TX | WP | (Lat. 29°39′20.23″ N, long. 95°16′35.83″ W)
Sabine Pass, TX (SBI) | VOR/DME | (Lat. 29°41′12.19″ N, long. 94°02′16.72″ W)

Issued in Washington, DC, on January 15, 2020.
Scott M. Rosenbloom,
Acting Manager, Rules and Regulations Group.

[FR Doc. 2020-00993 Filed 1-22-20; 8:45 am]

BILLING CODE 4910-13-P